DEPARTMENT OF VETERANS AFFAIRS

[OMB Control No. 2900-0060]

Agency Information Collection (Claim for One Sum Payment Government Life Insurance (VA Form 29-4125) and Claim for Monthly Payments Government Life Insurance (29-4125a)) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before August 22, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0060” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0060.”

SUPPLEMENTARY INFORMATION: Title:

Claim for One Sum Payment Government Life Insurance (29-4125)

Claim for Monthly Payments Government Life Insurance (29-4125a)

OMB Control Number: 2900-0060.

Type of Review: Revision of a currently approved collection.

Abstract: These forms are used by beneficiaries applying for proceeds of Government Life Insurance policies. The information requested on the forms is required by law, 38 U.S.C. Sections 1917 and 1952.

An agency may not conduct or sponsor, and a person is not required to respond to a collection of information unless it displays a currently valid OMB control number. The Federal Register Notice with a 60-day comment period soliciting comments on this collection of information was published at 81 FR 57, page 15789, March 24, 2016.

Affected Public: Individuals or households.

Estimated Annual Burden: 12,000 hours (VA Form 29-4125) and 10 hours (VA Form 29-4125a).

Estimated Average Burden per Respondent: 6 minutes.

Frequency of Response: On occasion.

Estimated Number of Respondents: 120,000 (VA Form 29-4125) and 100 (VA Form 29-4125a).

By direction of the Secretary.
Cynthia Harvey-Pryor,
Program Specialist, Office of Privacy and Records Management, Department of Veterans Affairs.

[FR Doc. 2016-17342 Filed 7-21-16; 8:45 am]

BILLING CODE 8320-01-P